DEPARTMENT OF THE INTERIOR

National Park Service

[NPS-WASO-NAGPRA-11058; 2200-1100-665]

Notice of Inventory Completion: U.S. Department of Agriculture, Forest Service, Arapaho and Roosevelt National Forest and Pawnee National Grasslands, Fort Collins, CO

AGENCY: National Park Service, Interior.

ACTION: Notice.

SUMMARY: The U.S. Department of Agriculture (USDA), Forest Service, Arapaho and Roosevelt National Forest and the Pawnee National Grassland (ARP) has completed an inventory of human remains and associated funerary objects, in consultation with the appropriate Indian tribes, and has determined that there is no cultural affiliation between the remains and any present-day Indian tribe. Representatives of any Indian tribe that believes itself to be culturally affiliated with the human remains may contact the ARP. Disposition of the human remains and associated funerary objects to the Indian tribes described below may occur if no additional requestors come forward.

DATES: Representatives of any Indian tribe that believes it has a cultural affiliation with the human remains should contact the ARP at the address below by October 17, 2012.

ADDRESSES: Sue Struthers, Arapaho and Roosevelt National Forest and Pawnee National Grasslands, 2150 Centre Avenue, Building E, Fort Collins, CO 80526, telephone (970) 295-6622.

SUPPLEMENTARY INFORMATION: Notice is here given in accordance with the Native American Graves Protection and Repatriation Act (NAGPRA), 25 U.S.C. 3003, of the completion of an inventory of human remains and associated funerary objects located at the University of Colorado Museum, Boulder, Colorado, and under the control of the USDA, Forest Service, ARP. The human remains and associated funerary objects described below were removed from Larimer County, CO.

This notice is published as part of the National Park Service's administrative responsibilities under NAGPRA, 25 U.S.C. 3003(d)(3) and 43 CFR 10.11(d). The determinations in this notice are the sole responsibility of the Federal agency that has control of the Native American human remains. The National Park Service is not responsible for the determinations in this notice.

Consultation

On May 16th and 17th, 2007, an initial assessment of the human remains was made by the ARP professional staff and the University of Colorado Natural History Museum, Boulder, CO, professional staff in consultation with representatives of the following tribes: Arapaho Tribe of the Wind River Reservation, Wyoming; Cheyenne and Arapaho Tribes, Oklahoma (foremerly the Cheyenne-Arapaho Tribes of Oklahoma); Cheyenne River Sioux Tribe of the Cheyenne River Reservation, South Dakota; Crow Tribe of Montana; Fort Sill Apache Tribe of Oklahoma; Jicarilla Apache Nation, New Mexico; Kiowa Indian Tribe of Oklahoma; Northern Cheyenne Tribe of the Northern Cheyenne Indian Reservation, Montana; Pawnee Nation of Oklahoma; Southern Ute Indian Tribe of the Southern Ute Reservation, Colorado; Three Affiliated Tribes of the Fort Berthold Reservation, North Dakota; Ute Indian Tribe of Uintah & Ouray Reservation, Utah; and the Ute Mountain Tribe of the Ute Mountain Reservation, Colorado, New Mexico & Utah. A second consultation meeting was held May 2nd and 3rd, 2012, with representatives of the Arapaho Tribe of theWind River Reservation, Wyoming; Northern Cheyenne Tribe of the Northern Cheyenne Indian Reservation, Montana; and the Southern Ute Indian Tribe of the Southern Ute Reservation, Colorado.

History and Description of the Remains

In August of 1963, human remains representing, at minimum, one individual were removed from the Gordon Creek burial site (5LR99), in Larimer County, CO. The remains were discovered during the course of a watershed improvement project in the Gordon Creek drainage eroding out of a stream bank on a tributary of Gordon Creek within the Arapaho and Roosevelt National Forest. Excavation was conducted by the Department of Anthropology, University of Colorado, with the approval of the USDA, Forest Service. After the excavation concluded, the human remains and the associated funerary objects were sent to the University of Colorado Natural History Museum. No known individuals were identified. The 24 associated funerary objects are 1 stone tool core; 1 stone biface perform tool; 1 stone perform tool; 2 stone biface tool fragments; 7 stone tool flakes; 1 sample of ochre (hematite); 2 animal bones (large mammal hyoid bones with cut marks on the ends); 4 elk incisor teeth; 1 burnt animal bone; 1 soil sample from burial pit; 1 soil sample labeled “attempted C14 sample”; 1 carbonized sap specimen; and 1 lot of residue from C14 testing.

Although the human remains were fragmentary, some of the skeleton and associated artifacts were removed from a slump below the burial pit and some of the skeleton was in situ, all of the skeletal remains were stained with a thick coat of red ocher. The remains were interred in a flexed position, in an intentionally formed burial pit. Subsequent analysis determined that the remains are those of a 25-30 year old American Indian (paleoindian) female and that the burial dates to approximately 9,000 year B.P. The Gordon Creek burial site is located on lands adjudicated by the Indian Claims Commission as the aboriginal lands of the Northern Cheyenne, Cheyenne and Arapaho, and Northern Arapaho tribes.

Determinations Made by the Arapaho and Roosevelt National Forest and Pawnee National Grasslands

Officials of the Arapaho and Roosevelt National Forest and Pawnee Grasslands have determined that:

• Based on archaeological evidence the human remains are Native American.

• Pursuant to 25 U.S.C. 3001(2), a relationship of shared group identity cannot be reasonably traced between the Native American human remains and any present-day Indian tribe.

• According to final judgments of the Indian Claims Commission, the land from which the Native American human remains and associated funerary objects were removed is the aboriginal land of the Arapaho Tribe of theWind River Reservation, Wyoming; Cheyenne and Arapaho Tribes, Oklahoma (formerly the Cheyenne-Arapaho Tribes of Oklahoma); and the Northern Cheyenne Tribe of the Northern Cheyenne Indian Reservation, Montana.

• Pursuant to 25 U.S.C. 3001(9), the human remains described in this notice represent the physical remains of one (1) individual of Native American ancestry.

• Pursuant to 25 U.S.C. 3001(3)(A), the 24 objects described above are reasonably believed to have been placed with or near individual human remains at the time of death or later as part of the death rite or ceremony.

• Pursuant to 43 CFR 10.11(c)(1), the disposition of the human remains and associated funerary objects is to the Northern Cheyenne Tribe of the Northern Cheyenne Indian Reservation, Montana.

Additional Requestors and Disposition

Representatives of any Indian tribe that believes itself to be culturally affiliated with the human remains or any other Indian tribe that believes it satisfies the criteria in 43 CFR 10.11(c)(1) should contact Sue Struthers, Arapaho and Roosevelt National Forest and Pawnee National Grasslands, 2150 Centre Avenue, Building E, Fort Collins, CO 80526, telephone (970) 295-6622, before October 17, 2012. Disposition of the human remains to Northern Cheyenne Tribe of the Northern Cheyenne Indian Reservation, Montana, may proceed after that date if no additional requestors come forward.

The Arapaho and Roosevelt National Forest and Pawnee National Grasslands is responsible for notifying the Arapaho Tribe of the Wind River Reservation, Wyoming; Cheyenne and Arapaho Tribes, Oklahoma (foremerly the Cheyenne-Arapaho Tribes of Oklahoma); Cheyenne River Sioux Tribe of the Cheyenne River Reservation, South Dakota; Crow Tribe of Montana; Fort Sill Apache Tribe of Oklahoma; Jicarilla Apache Nation, New Mexico; Kiowa Indian Tribe of Oklahoma; Northern Cheyenne Tribe of the Northern Cheyenne Indian Reservation, Montana; Pawnee Nation of Oklahoma; Southern Ute Indian Tribe of the Southern Ute Reservation, Colorado; Three Affiliated Tribes of the Fort Berthold Reservation, North Dakota; Ute Indian Tribe of Uintah & Ouray Reservation, Utah; and the Ute Mountain Tribe of the Ute Mountain Reservation, Dolorado, New Mexico & Utah that this notice has been published.

Dated: August 9, 2012.
Melanie O'Brien,
Acting Manager, National NAGPRA Program.

[FR Doc. 2012-22751 Filed 9-14-12; 8:45 am]

BILLING CODE 4312-50-P